DEPARTMENT OF ENERGY

Federal Energy Regulatory Commission

Notice of FERC Staff Attendance at Southwest Power Pool Independent Coordinator of Transmission (ICT) Stakeholder Policy Committee Meeting

October 6, 2009.

The Federal Energy Regulatory Commission hereby gives notice that members of its staff may attend the meeting noted below. Their attendance is part of the Commission's ongoing outreach efforts.

ICT Stakeholder Policy Committee Meeting

October 21, 2009 (8 a.m.-3 p.m.), Sheraton North Houston, 15700 John F. Kennedy Blvd., Houston, TX 77032, 281-442-5100.

The discussions may address matters at issue in the following proceedings:

Docket No. OA08-59 | Entergy Services, Inc.
Docket No. OA08-61 | Entergy Services, Inc.
Docket No. OA08-149 | Entergy Services, Inc.
Docket No. OA09-27 | Entergy Services, Inc.
Docket No. EL00-66 | Louisiana Public Service Commission v. Entergy Services, Inc.
Docket No. EL01-88 | Louisiana Public Service Commission v. Entergy Services, Inc.
Docket No. EL05-15 | Arkansas Electric Cooperative Corp. v. Entergy Arkansas, Inc.
Docket No. EL07-52 | Louisiana Public Service Commission v. Entergy Services, Inc.
Docket No. EL08-51 | Louisiana Public Service Commission v. Entergy Services, Inc.
Docket No. EL08-59 | ConocoPhillips v. Entergy Services, Inc.
Docket No. EL09-43 | Arkansas Public Service Commission v. Entergy Services, Inc.
Docket No. EL09-61 | Louisiana Public Service Commission v. Entergy Services, Inc.
Docket No. EL09-78 | South Mississippi Electric Power Association v. Entergy Services, Inc.
Docket No. ER05-1065 | Entergy Services, Inc.
Docket No. ER07-682 | Entergy Services, Inc.
Docket No. ER07-956 | Entergy Services, Inc.
Docket No. ER08-767 | Entergy Services, Inc.
Docket No. ER08-1056 | Entergy Services, Inc.
Docket No. ER08-1057 | Entergy Services, Inc.
Docket No. ER09-636 | Entergy Services, Inc.
Docket No. ER09-659 | Entergy Services, Inc.
Docket No. ER09-833 | Entergy Services, Inc.
Docket No. ER09-877 | Entergy Services, Inc.
Docket No. ER09-882 | Entergy Services, Inc.
Docket No. ER09-1180 | Entergy Services, Inc.
Docket No. ER09-1214 | Entergy Services, Inc.

These meetings are open to the public.

For more information, contact Amy Demetry, Office of Energy Market Regulation, Federal Energy Regulatory Commission at (202) 502-6090 or amy.demetry@ferc.gov.

Kimberly D. Bose,
Secretary.

[FR Doc. E9-24577 Filed 10-13-09; 8:45 am]

BILLING CODE 6717-01-P